DEPARTMENT OF AGRICULTURE

Forest Service

Deschutes and Ochoco National Forests Resource Advisory Committee

AGENCY: Forest Service, USDA.

ACTION: Notice of meeting.

SUMMARY: The Deschutes and Ochoco National Forests Resource Advisory Committee will meet in Redmond, Oregon. The purpose of the meeting is to review proposed projects and make recommendations under Title II (division C of Pub. L. 110-343 reauthorized and amended the Secure rural Schools and community Self-Determination Act of 2000 (SRS Act) as originally enacted in Public Law 106-393.

DATES: The meeting will be held January 27, 2010 from 9 a.m. to 5 p.m., and January 28, 2010 from 9 a.m. to 4 p.m.

ADDRESSES: The meeting will be held at the office of the Central Oregon Intergovernmental Council, 2363 SW Glacier Place, Redmond, Oregon 97756. Send written comments to Jeff Walter as Designated Federal Official, for the Deschutes and Ochoco National Forests Resource Advisory Committee, c/o Forest Service, USDA. Ochoco National Forest, 3160 NE., 3rd St., Prineville, OR 97754 or electronically to jwalter@fs.fed.us.

FOR FURTHER INFORMATION CONTACT: Jeff Walter, Designated Federal Official, Ochoco National Forest, 541-416-6625.

SUPPLEMENTARY INFORMATION: The meeting is open to the public. Committee discussion is limited to Forest Service staff and Committee members. However, persons who wish to bring Title II matters to the attention of the Committee may flle written statements with the Committee staff before the meeting. A public input session will be provided and individuals who made written requests by January 15, 2010 will have the opportunity to address the Committee at the session.

Dated: January 4, 2010.
Jeff Walter,
Designated Federal Official.

[FR Doc. 2010-252 Filed 1-11-10; 8:45 am]

BILLING CODE 3410-11-M